CONSUMER PRODUCT SAFETY COMMISSION

[Docket No. CPSC-2012-0055]

Agency Information Collection Activities; Submission for OMB Review; Comment Request—Flammability Standards for Children's Sleepwear

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information associated with the Standard for the Flammability of Children's Sleepwear: Sizes 0 Through 6X (16 CFR part 1615); and the Standard for the Flammability of Children's Sleepwear: Sizes 7 Through 14 (16 CFR part 1616), approved previously under OMB Control No. 3041-0027. In the Federal Register of November 25, 2015 (80 FR 73737), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by March 23, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0055.

Title: Standard for the Flammability of Children's Sleepwear: Sizes 0 through 6X; and the Standard for the Flammability of Children's Sleepwear: Sizes 7 through 14.

OMB Number: 3041-0027.

Type of Review: Renewal of collection.

Frequency of Response: On occasion.

Affected Public: Manufacturers and importers of children's sleepwear.

Estimated Number of Respondents: Based on a review of past firm inspections, and published industry information, approximately 50 large domestic companies manufacture most of the children's sleepwear produced in the United States. In addition, there may be up to 1,000 small domestic producers of children's sleepwear. Accordingly, there may be as many as 1,050 firms that manufacture children's sleepwear in the United States. There are also approximately 4,500 importers (which may include some of the domestic manufacturers) that supply children's sleepwear to the United States market.

Estimated Time per Response: The 50 large domestic manufacturers and the 100 largest importers may each introduce an average of 100 new children's sleepwear items annually. Testing and recordkeeping of each item is approximately 3 hours. The annual burden for the 50 large domestic manufacturers and the 100 largest importers is estimated at 45,000 hours for testing and recordkeeping (150 firms × 100 items × 3 hours). The remaining 1,000 manufacturers and 4,400 importers have on the average 10 new children's sleepwear items annually, for a testing and recordkeeping burden of 162,000 hours (5,400 firms × 10 items × 3 hours.)

Total Estimated Annual Burden: The total estimated potential annual burden imposed by the flammability standards on all manufacturers and importers of children's sleepwear is approximately 207,000 hours (45,000 hours + 162,000 hours).

Description of Collection: The Standard for the Flammability of Children's Sleepwear: Sizes 0 through 6X (16 CFR part 1615) and the Standard for the Flammability of Children's Sleepwear: Sizes 7 through 14 (16 CFR part 1616) address the fire hazard associated with small-flame ignition sources for children's sleepwear manufactured for sale in or imported into the United States. The standards also require manufacturers and importers of children's sleepwear to collect information resulting from product testing, and maintenance of the testing records. 16 CFR part 1615, subpart B; 16 CFR part 1616; subpart B.

Dated: February 17, 2016.
Todd A. Stevenson,
Secretary, Consumer Product Safety Commission.

[FR Doc. 2016-03580 Filed 2-19-16; 8:45 am]

BILLING CODE 6355-01-P